DEPARTMENT OF THE INTERIOR

Fish and Wildlife Service

50 CFR Part 15

[Docket No. FWS-HQ-IA-2021-0116; FXIA16710900000-FF09A10000-212]

Wild Bird Conservation Act of 1992; 90-Day Rulings on Petitions To Add Cactus Conure and Lineolated Parakeet (Green Form) to the Approved List for Captive-Bred Species

AGENCY: Fish and Wildlife Service, Interior.

ACTION: Notification of 90-day petition rulings.

SUMMARY: We, the U.S. Fish and Wildlife Service (Service), announce 90-day rulings on two petitions to add species to the approved list for captive-bred exotic bird species under the Wild Bird Conservation Act (WBCA) of 1992. Based on our review, we find that the petitions to add cactus conure (Aratinga cactorum) and lineolated parakeet (green form) (Bolborhynchus lineola (green form)) do not present sufficient information indicating that the petitioned actions might be warranted. Therefore, we will not seek public comments on these petitions and will take no further action in response to these petitions.

DATES: These rulings were made on November 10, 2021.

ADDRESSES: Copies of the petition and information submitted are available online in Docket No. FWS-HQ-IA-2021-0116 at http://www.regulations.gov.

FOR FURTHER INFORMATION CONTACT: Eleanora Babij, Chief, Branch of Consultation and Monitoring, 703-358-2488 (phone); 703-358-2276 (fax); or eleanora_babij@fws.gov (email). If you use a telecommunications device for the deaf (TDD), call the Federal Relay Service at 800-877-8339.

SUPPLEMENTARY INFORMATION:

Background

The Wild Bird Conservation Act (WBCA; 16 U.S.C. 4901-4916) was enacted on October 23, 1992, to promote the conservation of exotic birds listed in the appendices of the Convention on International Trade in Endangered Species of Wild Fauna and Flora (CITES) by: Ensuring that all imports of exotic bird species into the United States are biologically sustainable and not detrimental to the species; ensuring that wild bird populations are not harmed by removal of birds from the wild for importation into the United States; ensuring that imported birds are not subject to inhumane treatment during capture and transport; and assisting wild bird conservation and management programs in countries of origin.

What is the approved list for captive-bred species?

The approved list for captive-bred exotic bird species under the WBCA is authorized under the WBCA (16 U.S.C. 4905). It is a list of bird species that are regularly bred in captivity and no wild-caught birds of the species are in trade, and for which importation into the United States of captive-bred specimens is not prohibited by the WBCA. A WBCA import permit is not required if an exotic bird species is on the approved list for captive-bred exotic bird species. CITES requirements and any other applicable requirements for trade continue to apply.

The criteria for a species to be included in the approved list for captive-bred exotic bird species (“approved list”) are set forth in our regulations in title 50 of the Code of Federal Regulations (CFR) at § 15.31 (50 CFR 15.31), and the approved list is provided at 50 CFR 15.33(a).

How are bird species added to or removed from the approved list?

We periodically review and update the approved list. Under 50 CFR 15.31, to be included in the approved list, an exotic bird species must meet all of the following criteria:

(a) All specimens of the species known to be in trade (legal or illegal) are captive-bred;

(b) No specimens of the species are known to be removed from the wild for commercial purposes;

(c) Any importation of specimens of the species would not be detrimental to the survival of the species in the wild; and

(d) Adequate enforcement controls are in place to ensure compliance with paragraphs (a) through (c), above.

Additional information relating to these criteria is available in our December 2, 1994, final rule that promulgated our regulations for the WBCA list of approved species (59 FR 62255).

Further, section 110 of the WBCA (16 U.S.C. 4909) and its implementing regulations at 50 CFR part 15 set forth the procedures for petitions to add a species of exotic bird to, or remove such a species from, the approved list at 50 CFR 15.33(a). Section 110(b) of the WBCA requires that for each petition submitted in accordance with section 110(a) of the WBCA, we make a preliminary ruling on whether a petition to add a species of exotic bird to, or remove such a species from, the approved list presents sufficient information indicating that the action requested in the petition might be warranted. We are to make this preliminary ruling within 90 days of our receipt of the petition and publish the ruling in the Federal Register pursuant to 16 U.S.C. 4909(b)(1).

The WBCA does not expressly define what constitutes “sufficient information indicating that the action requested in the petition might be warranted” with regard to a 90-day preliminary ruling. Given the purposes of the WBCA, including ensuring that all imports of exotic bird species into the United States are biologically sustainable and not detrimental to the species, we interpret this language to refer to the presentation of credible scientific or commercial information in support of the petition's claims such that a reasonable person conducting an impartial scientific review would conclude that the action proposed in the petition might be warranted.

As described in our implementing regulations at 50 CFR 15.31, a species of exotic bird may be added to the approved list if the species meets all of the criteria (a) through (d) set forth in that section. However, the mere assertion that the species meets all of the criteria is not enough to support a preliminary ruling that the information in the petition is sufficient information indicating that the petitioned action might be warranted. The information presented in the petition must include sufficient information indicating that each of the criteria set forth at 50 CFR 15.31 might be met.

If we find that a petition presents such sufficient information, we will then provide an opportunity for the submission of public comments on the petition, and issue and publish in the Federal Register a final ruling on the petition, no later than 90 days after the end of the period for public comment pursuant to 16 U.S.C. 4909(b)(2).

The WBCA places the obligation squarely on the petitioner to present the requisite level of information to meet the “sufficient information” test to demonstrate that the petitioned action might be warranted. Therefore, in determining whether the petition presents sufficient information, we are not required to seek out any supporting source materials beyond what is included with a given petition. As a result, we will not base our 90-day rulings on any claims for which supporting source materials have not been provided in the petition. We need not resort to supplemental information to bolster, plug gaps in, or otherwise supplement a petition that is inadequate on its face.

We note, however, in determining whether a petition presents sufficient information or not, we must determine whether the claims are credible. Therefore, it is appropriate for the Service to consider readily available information that provides context in which to evaluate whether or not the information that a petition presents is timely and up-to-date, and whether it is reliable or representative of the available information on the species, in making its determination as to whether the petition presents sufficient information. It is reasonable for the Service to be able to examine the information and claims included in a petition in light of readily available scientific information prior to committing limited Federal resources to the significant expense of a review pursuant to 16 U.S.C. 4909(b)(2). We note further that because, as discussed below, the petitions at issue here were on their face inadequate to meet the applicable standards, our 90-day rulings are based solely on the information provided in the petition—we did not consider any readily available scientific information regarding these two species.

Evaluation of a Petition To Add the Cactus Conure to the Approved List

Species and Range

Cactus conure (Aratinga cactorum): Brazil.

Petition History

On July 30, 2021, we received a petition dated July 30, 2021, from the Organization of Professional Aviculturists (OPA) requesting to add captive-bred cactus conures (Aratinga cactorum) to the approved list under the WBCA. This ruling addresses the petition.

Basis for the Ruling

Criterion (a)

Criterion (a) is that all specimens of the species known to be in trade (legal or illegal) are captive-bred. The petition states: “This species is regularly bred in captivity in Europe. Attached to this petition are several publications relating to the captive breeding of Cactus Conure in Europe. Also attached are ads from the European website, Parrots 4 Sale, which includes several ads of Cactus Conures for sale. Also provided with this petition is a print out of the CITES trade database which shows that the last trade in wild specimens occurred in 1997. Since then, for over twenty-years, no wild caught trade has occurred. As such, this petition demonstrates that the Cactus Conure is regularly bred in European aviculture and there are no wild-caught birds of the species [are] in world trade.”

The petition includes a two-part interview published in 2016 by Parrots Daily News with Czech aviculturist Zdenek Vandelik, who keeps and breeds cactus conures and other South American parrots. With regard to cactus conure, in the first part of the interview, the breeder mentions only that he keeps and breeds a “colony of Cactus Conure,” and in the second part of the interview he states that he “still keep[s] Cactus Conures in a colony system. But I am going to split the group next year because the dominant pair is the only one which breeds. Other pairs lay eggs but they do not incubate them or do not feed chicks. Therefore I need to make a change.” Altogether, the 2016 two-part interview provides only one brief anecdote about cactus conure breeding by a single cactus conure breeder. The interview provides no information on the origin of the breeding stock or on the source of cactus conures in trade to or from the breeder. The petition also includes a section on conures from the book “Psittaculture: A Manual for the Care and Breeding of Parrots” by Tony Silva. The book excerpt does note that “Cactus Conures Eupsittula cactorum are very popular in Brazil, where they are regarded as fairly quiet, intelligent and active pets.” This passing reference indicates there is a popular pet trade in the species in the range country, Brazil, but the book gives no information as to whether the source of the pet trade is wild or captive-bred, legal or illegal, or whether adequate enforcement controls are in place in Brazil to ensure that wild specimens are not entering international trade through this pet trade. The petition also includes a printout of a search result for “cactus conure” from the European website, Parrots 4 Sale, showing links to 13 advertisements for small numbers of cactus conures for sale between 2017 and 2019 from Denmark and the Netherlands. However, the advertisements do not provide any indication of the source of the birds for sale (i.e., captive-bred or wild). Of the advertisements, twelve are from a single seller in Denmark, while the thirteenth is from the Netherlands. It is not apparent from the printout whether these advertisements relate to the same or different birds, and no information is presented on whether the solicited trade took place. Although these sources briefly mention this species, they do not discuss or address the issue of whether or not all specimens of this species known to be in trade (legal and illegal) are captive-bred.

The output from the CITES Trade Database submitted with the petition shows the international trade in the species reported since 1975, with the most recently reported entry being a 2018 export of bred-in-captivity specimens from Brazil to Portugal. The petitioner notes that the last international trade in wild cactus conure reported in the CITES Trade Database was in 1997. Although the CITES Trade Database and its data contained within can be extremely valuable in examining international trade in a particular species, there are limitations of the database, including some discrepancies in reporting. However, the limited data presented show a serious discrepancy in two reported instances of trade in 2013 and in 2014 that indicate a likelihood of non-compliant trade (illegal trade). In each instance an export quantity of only 2 live specimens was reported exported from the Netherlands, but an import quantity of 4 live specimens was reported imported to Panama. The petition provides no further information to explain these discrepancies. Additionally, during the time period from 1998 to 2018, 46 actual imports of live cactus conure were reported in the CITES Trade Database, while 86 exports of live cactus conure were reported in the CITES Trade Database. Over the time period, imports reported in the CITES Trade Database averaged only a little over 2 live birds per year, while exports reported in the CITES Trade Database averaged only a little over 4 live birds per year. While it is not possible to determine the exact reason for the discrepancies from this output alone, the discrepancy noted may indicate inaccurate reporting, incomplete reporting, reporting by exporting countries of quantities authorized for export (as opposed to actual quantities exported), high bird mortality, or instances of trade that was not conducted in accordance with CITES (illegal trade). Regardless of these discrepancies, an average of approximately 2-4 live birds in international trade annually indicates very few records of any specimens in trade, and that the species is relatively rare in aviculture. For the Service to list a species as exclusively captive-bred, the statute requires the Service to determine that the species is regularly bred in captivity and that no wild-caught birds of the species are in trade, legally or illegally. Simply noting that a species is bred in captivity is not sufficient to indicate that it is regularly bred in captivity. As explained in our 1994 final rulemaking (59 FR 62259-60), with so few records, we are not be able to make the determination required by the statute that the species is regularly bred in captivity. We noted that a purpose of the approved list for captive-bred exotic bird species is to facilitate commercial importation of captive-bred species whose trade in no way can be detrimental to populations of these species in the wild. The fundamental purpose of the WBCA is conservation of exotic bird species in the wild. For species that are rare in aviculture, individual captive-bred birds may be imported under permits for approved cooperative breeding programs, zoological breeding and display, or scientific research, pursuant to subpart C of 50 CFR part 15. The Service also recognized that with increased captive breeding efforts for those species, they may be able to meet criteria for approval in § 15.31 in the future.

Therefore, based on the limited information provided in the petition regarding trade (legal or illegal) in this species, and the indication from the limited information provided that the species is rare in aviculture, we find that the petition does not present sufficient information indicating this species might meet criterion (a) at 50 CFR 15.31.

Criterion (b)

Criterion (b) is that no specimens of the species are known to be removed from the wild for commercial purposes. While the petition mentions information and advertisements concerning the captive-breeding of cactus conures in Europe and CITES Trade Database output, as quoted above under “Criterion (a),” the petition does not explicitly discuss or address this criterion. No citations or supporting materials are included in the petition to indicate that no specimens of the species are known to be removed from the wild for commercial purposes. The information provided in the petition indicates that some captive breeding of this species is occurring, that a small number of birds are being offered for sale commercially, and that there are few records of international trade in the species. However, no information was provided in the petition to confirm that birds are not being removed from the wild to serve as parental stock for captive-bred specimens for commercial purposes. In addition, the petition does not provide any information on collection in the range country of this species, Brazil, indicating that no wild specimens of cactus conures are being collected for commercial purposes. As noted above, the book excerpt presented notes only that cactus conures “are very popular in Brazil, where they are regarded as fairly quiet, intelligent and active pets.” This reference indicates there is a popular pet trade in the species in the range country, Brazil, and may indicate demand for the species from the wild, but the book gives no information as to whether the source of the pet trade or its breeding stock is wild or captive-bred, legal or illegal, or whether adequate enforcement controls are in place in Brazil to ensure that wild specimens are not entering international trade through this pet trade. Therefore, based on the lack of information provided in the petition regarding removal of specimens from the wild for commercial purposes, we find that the petition does not present sufficient information indicating that this species might meet criterion (b) at 50 CFR 15.31.

Criterion (c)

Criterion (c) is that any importation of specimens of the species would not be detrimental to the survival of the species in the wild. Given the purposes of the WBCA, we find the factors in our CITES regulations for non-detriment findings at 50 CFR 23.61 relevant to this criterion. The petition does not discuss or provide information to address this criterion. For example, the petition provides no information relating to the status or management of the species in the wild or the effect of trade in live cactus conures on cactus conures in the wild. As noted above, with regard to the range country, Brazil, the information presented notes only that cactus conures “are very popular in Brazil, where they are regarded as fairly quiet, intelligent and active pets.” This reference indicates there is a popular pet trade in the species in the range country, and may indicate demand for the species from the wild, but the petition provides no information as to whether the source of the pet trade or its breeding stock is wild or captive-bred, legal or illegal, or whether adequate enforcement controls are in place in Brazil to ensure that wild specimens are not being used unsustainably as breeding stock or otherwise entering international trade through this pet trade. Therefore, based on the lack of information provided in the petition regarding whether or not the importation of specimens of this species would be detrimental to the survival of the species in the wild, we find that the petition does not present sufficient information indicating that this species might meet criterion (c) at 50 CFR 15.31.

Criterion (d)

Criterion (d) is that adequate enforcement controls are in place to ensure compliance with criteria (a) through (c). The petition does not discuss or provide information to address this criterion. As explained in our 1994 final rulemaking (59 FR 62258), it is critical that enforcement be in place and adequate in range countries and in countries of export of captive-bred birds. The Service notes that adequate enforcement in exporting countries is critical to ensure that wild-caught birds will not be misrepresented and laundered as captive-bred birds. Adequate enforcement is critical to implementation of CITES, a specified purpose of the WBCA. With regard to the range country, Brazil, the information presented notes only that cactus conures “are very popular in Brazil, where they are regarded as fairly quiet, intelligent and active pets” and the output from the CITES Trade Database records Brazil as an exporting country. As previously noted, the petition provides no information as to whether adequate enforcement controls are in place in Brazil. The remaining three pieces of information presented (the interview, the advertisements, and the output from the CITES Trade Database) indicate there might be captive breeding in and/or export from several countries. No information is provided on the adequacy of enforcement for any of the exporting countries. Therefore, based on the lack of information provided in the petition regarding whether or not adequate enforcement controls are in place to ensure compliance with criteria (a) through (c), we find that the petition does not present sufficient information indicating that this species might meet criterion (d) at 50 CFR 15.31.

Our regulations at 50 CFR 15.31 state that for a species to be included in the approved list, an exotic bird species must meet all of the criteria set forth at 50 CFR 15.31. Given that the petition does not present sufficient information indicating that this species might meet any of the criteria set forth at 50 CFR 15.31, based on our review of the petition and the information submitted in the petition, we find that the petition does not present sufficient information indicating that adding the cactus conure (Aratinga cactorum) to the approved list might be warranted. Because the petition does not present sufficient information indicating that the petitioned action might be warranted, we are not seeking public comments in response to this petition and will take no further action in response to this petition.

Evaluation of a Petition To Add the Lineolated Parakeet (Green Form) to the Approved List

Species and Range

Lineolated parakeet (green form) (Bolborhynchus lineola (green form)): Bolivia, Colombia, Costa Rica, Ecuador, El Salvador, Guatemala, Honduras, Mexico, Nicaragua, Panama, Peru, and Venezuela.

Petition History

On August 3, 2021, we received a petition dated August 3, 2021, from the OPA and the Lineolated Parakeet Society (LPS) requesting to add captive-bred lineolated parakeet (green form) (Bolborhynchus lineola (green form)) to the approved list under the WBCA. This ruling addresses the petition.

In the December 2, 1994, final rule that promulgated our regulations for the WBCA list of approved species (59 FR 62259), we noted that the lineolated or barred parakeet (Bolborhynchus lineola), which commenters requested be included in the approved list, could not be added to the approved list for captive-bred exotic bird species because the species did not meet the criteria for approval in § 15.31(a) and wild-caught birds are in international trade. However, as further explained in our 1994 final rulemaking (59 FR 622561), the Service agreed that when a bird species' color mutation is (a) rare or nonexistent in the wild, and therefore not likely to be obtained as wild-caught stock; (b) regularly produced in captivity; and (c) distinguishable from the typical wild form and such ability to distinguish the color mutation is easy for the non-expert, then color mutations of a species may be added to the approved list. Therefore, at that time, we added the following color mutations of the lineolated or barred parakeet to the approved list: Blue, yellow and white forms (see 50 CFR 15.33(a)). However, given that the green form of the lineolated parakeet is the typical, wild color form for this bird, and, therefore, not a color mutation of the species that is rare or nonexistent in the wild or distinguishable from the typical wild form, the green form of the lineolated parakeet was not added to the approved list in 1994.

Basis for the Ruling

Criterion (a)

Criterion (a) is that all specimens of the species known to be in trade (legal or illegal) are captive-bred. The petition states: “This species is regularly bred in captivity in Europe. Attached to this petition are several publications relating to the captive breeding of Lineolated Parakeet in Europe. Also attached are ads from several European websites listing ads of captive-bred Lineolated Parakeets for sale. Also provided with this petition is a printout of the CITES trade database which shows that the last wild trade in the species occurred in 2012 when two wild-caught Lineolated Parakeet[s] specimens were re-exported from the U.S. to Canada for scientific purposes. The data also demonstrates that the species is commonly bred in captivity. As such, this petition demonstrates that the Lineolated Parakeets are regularly bred in aviculture, i.e., captivity, and no wild-caught birds of the species are in the worldwide trade.”

The petition includes an article titled, “It's Not Easy Being Green” Project—The Importance of Wild Type Birds: The Disappearance of Green Lineolated Parakeet” by the Lineolated Parakeet Society (LPS), which discusses care and breeding of the species, as well as the goal of the LPS to propagate breeding of the wild, normal green color form and support a healthy stock of normal green color forms for strong breeding programs in U.S. aviculture. The petition also provided a section on South American Parakeets from the book “Psittaculture: A Manual for the Care and Breeding of Parrots” by Tony Silva and a 2020 account of Bolborhynchus lineola by the Cornell Lab of Ornithology. Although these sources provide details regarding the biology and breeding of this species, they do not discuss or address the issue of whether or not all specimens of this color form of the species known to be in trade (legal and illegal) are captive-bred. The small number of advertisements provided in the petition from four European websites show lineolated parakeets for sale in 2020 and 2021 from the United Kingdom, Germany, and the Netherlands. However, only one of the advertisements lists the green color form for sale and none of the advertisements indicate the source of the birds for sale (i.e., captive-bred or wild). The output from the CITES Trade Database submitted with the petition shows the international trade in lineolated parakeet reported since 1975. Although the CITES Trade Database and its data contained within can be extremely valuable in examining international trade in a particular species, there are limitations of the database, including some discrepancies in reporting. Importantly for purposes of evaluating this petition, the CITES Trade Database does not indicate color form for the trade. Accordingly, without additional information we are unable to evaluate whether the reported trade in the CITES Trade Database is in the petitioned green form of the species. We note that even if the reported trade presented in the output were able to be attributed to the green form, then there would be a number of examples of illegal trade where commercial imports to the U.S. are reported in the time period since the enactment of the WBCA. Additionally, a serious discrepancy is shown in several reported instances of trade that indicate a likelihood of non-compliant trade (illegal trade), where an export quantity of fewer live specimens was reported exported from an exporting country, but an import quantity of more specimens was reported imported to an importing country. For example, as recently as 2019, an export quantity of 10 live specimens was reported exported from the Netherlands to Oman, but an import quantity of 100 live specimens was reported imported to Oman from the Netherlands. The petition provides no further information to explain these discrepancies.

For the Service to list a species as exclusively captive-bred, the statute requires the Service to determine that the species is regularly bred in captivity and that no wild-caught birds of the species are in trade, legally or illegally. Simply noting that a species is bred in captivity is not sufficient to indicate that it is regularly bred in captivity. As explained in our 1994 final rulemaking (59 FR 62259-60), with so few records presented pertaining to the green form, we are not be able to make the determination required by the statute that the green form of the species is regularly bred in captivity. We noted that a purpose of the approved list for captive-bred exotic bird species is to facilitate commercial importation of captive-bred species, whose trade in no way can be detrimental to populations of these species in the wild. The fundamental purpose of the WBCA is conservation of exotic bird species in the wild.

Therefore, based on the lack of information provided in the petition regarding trade (legal or illegal) in this color form of the species, we find that the petition does not present sufficient information indicating that this color form of the species might meet criterion (a) set forth at 50 CFR 15.31.

Criterion (b)

Criterion (b) is that no specimens of the species are known to be removed from the wild for commercial purposes. While the petition mentions information and provides publications and advertisements concerning the captive-breeding of lineolated parakeets in Europe and CITES Trade Database output, as quoted above under “Criterion (a),” the petition does not explicitly discuss or address this criterion. No citations or supporting materials are included in the petition to indicate that no specimens of the green form of the species are known to be removed from the wild for commercial purposes. The information provided in the petition indicates that captive breeding of lineolated parakeets is occurring and that captive-bred birds are being offered for sale commercially, though as noted above little of the information presented clearly relates to the petitioned color form. However, no information was provided in the petition to confirm that birds of the petitioned color form are not being removed from the wild to serve as parental stock for captive-bred specimens for commercial purposes. In addition, the petition does not provide any information on collection in the range countries of this species indicating that no wild specimens of the green form of lineolated parakeets are being collected for commercial purposes. Therefore, based on the lack of information provided in the petition regarding removal of specimens from the wild for commercial purposes, we find that the petition does not present sufficient information indicating that this color form of the species might meet criterion (b) set forth at 50 CFR 15.31.

Criterion (c)

Criterion (c) is that any importation of specimens of the species would not be detrimental to the survival of the species in the wild. Given the purposes of the WBCA, we find the factors in our CITES regulations for non-detriment findings at 50 CFR 23.61 relevant to this criterion. The petition does not discuss or provide information to address this criterion. For example, the petition provides no information relating to the status or management of the species in the wild in any of its range countries or the effect of trade in live green form lineolated parakeets on lineolated parakeets in the wild. Therefore, based on the lack of information provided in the petition regarding whether the importation of specimens of this color form of the species would be detrimental to the survival of the species in the wild, we find that the petition does not present sufficient information indicating this color form of the species might meet criterion (c) set forth at 50 CFR 15.31.

Criterion (d)

Criterion (d) is that adequate enforcement controls are in place to ensure compliance with criteria (a) through (c). The petition does not discuss or provide information to address this criterion. As explained in our 1994 final rulemaking (59 FR 62258), it is critical that enforcement be in place and adequate in range countries and in countries of export of captive-bred birds. The Service notes that adequate enforcement in exporting countries is critical to ensure that wild-caught birds will not be misrepresented and laundered as captive-bred birds. Adequate enforcement is critical to implementation of CITES, a specified purpose of the WBCA. The petition does not provide information as to whether adequate enforcement controls are in place in any of the range countries or exporting countries for the green form of lineolated parakeet. Therefore, based on the lack of information provided in the petition regarding whether or not adequate enforcement controls are in place to ensure compliance with criteria (a) through (c), we find that the petition does not present sufficient information indicating that this color form of the species might meet criterion (d) set forth at 50 CFR 15.31.

Our regulations at 50 CFR 15.31 state that for a species to be included in the approved list, an exotic bird species must meet all of the criteria set forth at 50 CFR 15.31. Given that the petition does not present sufficient information indicating that this color form of the species might meet any of the criteria set forth at 50 CFR 15.31 based on our review of the petition and the information submitted in the petition, we find that the petition does not present sufficient information indicating that adding the lineolated parakeet (green form) (Bolborhynchus lineola (green form)) to the approved list might be warranted. Because the petition does not present sufficient information indicating that the petitioned action might be warranted, we are not seeking public comments in response to this petition and will take no further action in response to this petition.

Conclusion

Based on our evaluation of the information presented in the petitions under our implementing regulations at 50 CFR 15.31, we have determined that the petitions summarized above for cactus conure (Aratinga cactorum) and lineolated parakeet (green form) (Bolborhynchus lineola (green form)) do not present sufficient information indicating that the petitioned actions might be warranted. Therefore, we will not seek public comments on these petitions and will take no further action in response to these petitions.

Author

The primary author of this document is a staff member of the Division of Scientific Authority, U.S. Fish and Wildlife Service (see FOR FURTHER INFORMATION CONTACT).

Authority

The authority for this action is the Wild Bird Conservation Act (16 U.S.C. 4901-4916 et seq.).

Martha Williams,
Principal Deputy Director, Exercising the Delegated Authority of the Director, U.S. Fish and Wildlife Service.

[FR Doc. 2021-24629 Filed 11-8-21; 11:15 am]

BILLING CODE 4333-15-P